DEPARTMENT OF ENERGY

Federal Energy Regulatory Commission

[Docket No. CP17-80-004]

Columbia Gas Transmission, LLC; Notice of Request for Extension of Time

Take notice that on June 8, 2023, Columbia Gas Transmission, LLC (Columbia) requested that the Federal Energy Regulatory Commission (Commission) grant an extension of time, until July 19, 2026, to construct and operate its Eastern Panhandle Expansion Project, originally authorized in the July 19, 2018 Order Issuing Certificate under section 7 of the Natural Gas Act and part 157 of the Commission's regulations (July 19, Order).¹ Ordering Paragraph (B1) of the July 19 Order provided a deadline of July 19, 2020, to complete construction of the facilities and making them available for service.

¹ See Columbia Gas Transmission, LLC, 164 FERC ¶ 61,036 (2018) (July 19 Order), reh'g denied, 170 FERC ¶ 61,247 (2020).

In its original application, Columbia requested authorization to construct and operate approximately 3.37 miles of 8-inch in diameter pipeline commencing in Fulton County, Pennsylvania, and extending through Washington County, Maryland, to a point of delivery in Morgan County, West Virginia. The project was designed to meet Mountaineer Gas' request for 47,500 dekatherms per day (Dth/d) of capacity, and Mountaineer Gas and Columbia have a binding precedent agreement executed for the entire capacity of the project for a 20-year primary term.

On July 8, 2020, Columbia filed a request for a three-year extension of time, until July 19, 2023, to construct the project and place it into service. In that filing, Columbia stated that, due to unforeseen delays in acquiring an easement from the Government of Maryland across the Western Maryland Rail Trail, additional time was required in order to complete the construction of the authorized project facilities. On August 25, 2020, the Commission granted Columbia's request.²

² Columbia Gas Transmission, LLC, Docket No. CP18-116-003 (August 25, 2020) (delegated order).

In this latest request, Columbia states that the easement in question is still the subject of litigation pending before the U.S. Court of Appeals for the Fourth Circuit (Fourth Circuit). Columbia reports that, due to this litigation, Columbia is prevented from moving forward with the construction of the project.

This notice establishes a 15-calendar day intervention and comment period deadline. Any person wishing to comment on the applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).³

³ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (886) 208-3676 or TTY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on June 30, 2023.

Dated: June 15, 2023.
Kimberly D. Bose,
Secretary.

[FR Doc. 2023-13267 Filed 6-21-23; 8:45 am]

BILLING CODE 6717-01-P